NATIONAL AERONAUTICS AND SPACE ADMINISTRATION

[Notice: 16-083]

NASA Federal Advisory Committees; Notice of Establishment Pursuant to the Federal Advisory Committee Act, 5 U.S.C. App.

AGENCY: National Aeronautics and Space Administration.

The Administrator of the National Aeronautics and Space Administration (NASA) has determined that the establishment of five (5) NASA Federal advisory committees under the Federal Advisory Committee Act (FACA) is necessary and in the public interest in connection with the performance of duties imposed upon NASA by law. This determination follows consultation with the Committee Management Secretariat, General Services Administration.

Name of Federal Advisory Committees: Astrophysics Advisory Committee; Heliophysics Advisory Committee; Earth Science Advisory Committee; Planetary Science Advisory Committee; Human Exploration and Operations Research Advisory Committee.

Purpose and Objectives: Each of the five (5) NASA Federal advisory committees will advise NASA on scientific matters within the scope of its respective area of responsibility. Specifically, the scientific matters involve NASA research programs, policies, plans, and priorities pertaining to astrophysics, heliophysics, Earth science, planetary science, and human exploration and operations research. The five (5) NASA Federal advisory committees will function solely as advisory bodies and will comply fully with the provisions of FACA.

Membership: Membership of each of the five (5) NASA Federal advisory committees and any subordinate groups formed under each committee shall consist of individual subject-matter experts who will serve as Special Government Employees (unless they are Regular Government Employees). They will be chosen from among academia, industry and government with demonstrated and well-recognized knowledge, expertise and experience in fields relevant to their respective scientific disciplines. The membership of each Federal advisory committee will be fairly balanced in terms of points of view represented and functions to be performed. Diversity shall be considered as well.

Duration: Each of the five (5) NASA Federal advisory committees is a discretionary committee and is envisioned to be continuing entity subject to charter renewals every two years.

Responsible NASA Official: Dr. Gale Allen, Deputy Chief Scientist, NASA Headquarters, (202) 358-4580, or gale.allen@nasa.gov.

FOR FURTHER INFORMATION CONTACT: Dr. Gale Allen, Deputy Chief Scientist, NASA Headquarters, (202) 358-4580, or gale.allen@nasa.gov.

Carol J. Hamilton,
Acting Advisory Committee Management Officer, National Aeronautics and Space Administration.

[FR Doc. 2016-28981 Filed 12-1-16; 8:45 am]

BILLING CODE 7510-13-P